DEPARTMENT OF AGRICULTURE

Animal and Plant Health Inspection Service

[Docket No. 03-101-5]

Environmental Impact Statement; Petition for Deregulation of Genetically Engineered Glyphosate-Tolerant Creeping Bentgrass; Request for Additional Information

AGENCY: Animal and Plant Health Inspection Service, USDA.

ACTION: Notice.

SUMMARY: We are advising the public that the Animal and Plant Health Inspection Service is seeking information to develop an environmental impact statement as part of its consideration of a petition received from Monsanto Company and The Scotts Company. The petition requests a determination of nonregulated status for engineered creeping bentgrass (Agrostis stolonifera) that is glyphosate tolerant. We are preparing this environmental impact statement in accordance with 7 CFR 372.5 and 40 CFR 1501.3 and 1501.4. We are seeking specific information about glyphosate use to control grasses. We are primarily interested in the details of those programs that focus on weed management in nonagricultural lands.

DATES: We will consider all comments that we receive on or before November 14, 2005.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2005-0029 to submit or view public comments on APHIS Docket ID 03-101-5.

• Postal Mail/Commercial Delivery: Please send four copies of your comment (an original and three copies) to Docket No. 03-101-5, Regulatory Analysis and Development, PPD, APHIS, Station 3C71, 4700 River Road, Unit 118, Riverdale, MD 20737-1238. Please state that your comment refers to Docket No. 03-101-5.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Comments submitted in response to the previous notices cited in this document may be viewed on the Internet on the following Web sites; there is no need to resubmit those previously submitted comments in response to this notice. Comments on Docket No. 03-101-1 and Docket No. 03-101-2 are available at https://web01.aphis.usda.gov/Bentgrass.nsf. Comments on Docket No. 03-101-4 are available on the Regulations.gov Web site (see “Federal eRulemaking Portal” above) or at http://docket.epa.gov/edkfed/do/EDKStaffCollectionDetailView?objectId=0b0007d4806fe549.

FOR FURTHER INFORMATION CONTACT: Dr. Susan M. Koehler, BRS, APHIS, 4700 River Road, Unit 147, Riverdale, MD 20737-1238; (301) 734-4886.

SUPPLEMENTARY INFORMATION: The Animal and Plant Health Inspection Service (APHIS) is preparing an environmental impact statement (EIS) with respect to a possible decision to remove engineered creeping bentgrass with glyphosate resistance (Scotts/Monsanto event ASR368) from regulation under 7 CFR part 340. We are seeking specific information about glyphosate use to control grasses in vegetation management programs that focus on publicly or privately owned, non-agricultural lands. These locations may include areas like parks or recreation areas, highway roadsides, pipeline pumping stations, or electrical substations. The types of habitats in which we are most interested are grasslands, riparian areas, or wetlands, because creeping bentgrass is best adapted for these areas. However, information on any habitats where Agrostis, Polypogon, or Poa sp. are present would also be useful.

The type of information that APHIS seeks is specific and detailed. We invite information about both your vegetation management program and how that program would change if glyphosate resistant grasses were established in the managed habitat. The specific types of information that we seek are listed below:

(I) An overall description of the management program.

(A) Whether the goals and purpose of the management program include:

1. The control of invasive or noxious weeds.

2. The recovery or management of habitat for federally listed threatened or endangered species or other wildlife or species of concern.

3. The restoration of ecosystem function.

4. The maintenance of public use areas or rights-of-way.

(B) If creeping bentgrass or its sexually compatible relatives are present in the managed area:

1. Herbicide combinations or formulations used that include glyphosate.

2. The total land area that is treated with glyphosate or a formulation containing glyphosate.

3. The method and frequency of application of these herbicide formulations in the management plan.

(II) How management programs would change if glyphosate resistant species were present.

(A) Include potential changes in management strategies.

(B) Changes in cost.

(C) Changes in focus of program.

(D) Legal restrictions on alternative vegetation management strategies.

Because the data and information that we seek is not generally available, we are requesting this information in response to this notice. Descriptive and application-specific information is most helpful. Floristic assessments showing the prevalence of the cited grasses or sexually compatible relatives are also of interest. Please let us know if we may contact you for further information about your management activities. Your contributions will be used within the EIS to evaluate possible environmental impacts from engineered creeping bentgrass.

Background

The Host Organism

Agrostis stolonifera (creeping bentgrass or CBG) is a cool-season, wind-pollinated, perennial species with about 13 relatives with which it can cross in the United States. CBG and about 33 other species of the genus occur naturally across the continental United States. The species occurs in wet meadows, seepage areas, ditches, on stream banks and along the margins of ponds and lakes, in moist disturbed areas, various grasslands (including upland prairies), mesic to rather dry upland forests, and on roadsides and railroad embankments. Bentgrasses can spread via dispersal of seed by wind, water, and animals, and vegetatively via above-ground runners (stolons). Common bentgrasses and rabbitsfoot grasses (e.g., Polypogon monspeliensis) may become glyphosate resistant if pollen transmits the genes to these other species, conferring resistance to glyphosate. Other grasses in other genera (such as Poa, bluegrasses) could become tolerant or resistant to glyphosate through selective processes following repeated use of the herbicide on golf courses.

The Regulatory History

On April 14, 2003, APHIS received petition 03-104-01p from Monsanto Company (St. Louis, MO) and The Scotts Company (Gervais, OR) (Monsanto/Scotts), requesting deregulation of a creeping bentgrass (Agrostis stolonifera L., synonym A. palustris Huds.) that has been genetically engineered for tolerance to the herbicide glyphosate. The Monsanto/Scotts petition states that the subject creeping bentgrass, designated as event ASR368, should not be regulated by APHIS because it does not present a plant pest risk. (The petition is available on the Internet at http://www.aphis.usda.gov/brs/aphisdocs/03_10401p.pdf.)

In a notice published in the Federal Register on January 5, 2004 (69 FR 315-317, Docket No. 03-101-1), APHIS announced the receipt of the Monsanto/Scotts petition and solicited comments on whether the subject creeping bentgrass would present a plant pest risk. We solicited comments concerning our notice for 60 days, ending March 5, 2004.

On September 24, 2004, APHIS published in the Federal Register (69 FR 57257-57260, Docket No. 03-101-2) a notice advising the public of our decision to prepare an EIS as part of our consideration of petition 03-104-01p. Our decision was based on several factors: (1) Data associated with the petition, (2) a report prepared by the Weed Science Society of America on the weed management implications associated with the potential deregulation and commercialization of glyphosate tolerant and glufosinate tolerant creeping bentgrass varieties (http://www.wssa.net/society/bentgrass.pdf), (3) our preliminary risk assessment (http://www.aphis.usda.gov/brs/aphisdocs/03_10401p_ra.pdf), and (4) public comments received in response to the January 5, 2004, Federal Register notice.

Pursuant to 40 CFR 1501.4(d), APHIS initiated the scoping process as mandated by the National Environmental Policy Act, beginning with the previously cited January 2004 Federal Register notice. The comment period for the September 2004 notice of intent was scheduled to close on October 24, 2004. However, in a document published in the Federal Register on November 18, 2004 (Docket No. 03-101-3, 69 FR 67532-67533), we reopened that comment period until December 2, 2004, to give interested parties additional time to respond.

On April 11, 2005, APHIS published a notice (70 FR 18352-18353, Docket No. 03-101-4) announcing public scoping meetings. The meetings were held in Chevy Chase, MD, on May 3, 2005, and in Corvallis, OR, on May 18, 2005.

All comments that we received in response to the January 2004, September 2004, November 2004, and April 2005 notices will be included as part of the scoping process and need not be resubmitted. You may read the previously submitted comments on the Internet or in our reading room (see ADDRESSES above). When the draft EIS is completed, we will publish a notice in the Federal Register announcing its availability and inviting the public to comment on it. Following our consideration of the comments received, APHIS will prepare a final EIS; its availability will also be announced in the Federal Register along with a public comment period, after which the Record of Decision will be issued.

Done in Washington, DC, this 5th day of October 2005.
Elizabeth E. Gaston,
Acting Administrator, Animal and Plant Health Inspection Service.

[FR Doc. E5-5579 Filed 10-11-05; 8:45 am]

BILLING CODE 3410-34-P